DEPARTMENT OF THE TREASURY

Submission for OMB Review; Comment Request

May 20, 2009.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11020, 1750 Pennsylvania Avenue, NW., Washington, DC 20220.

DATES: Written comments should be received on or before June 29, 2009 to be assured of consideration.

Office of the Procurement Executive

OMB Number: 1505-0208.

Type of Review: New collection.

Title: Terrorism Risk Insurance Program Cap on Annual Liability.

Description: Section 103 of the Terrorism Risk Insurance Act of 2002 (the Act), as amended by the Reauthorization Act, sets a limit on the annual liability for insured losses at $100 billion. This section requires the Secretary of the Treasury to notify Congress not later than 15 days after the date of an act of terrorism as to whether aggregate insured losses are estimated to exceed the cap. The Act, as amended, also requires the Secretary to determine the pro rata share of insured losses under the Program when insured losses exceed the cap, and to issue regulations for carrying this out. In order to meet these requirements, Treasury may need to obtain loss information from involved insurers. This would be accomplished by the issuance of a “data call” to ascertain insurer losses. In the event of the imposition on insurers of a “pro rata loss percentage”, it will be necessary to determine compliance when processing insurer claims for payment of the Federal share of compensation. This would be accomplished by nominal revision to the currently approved Treasury form TRIP 02C, “Bordereau” or “Schedule C”.

Respondents: Businesses or other for-profit institutions.

Estimated Total Reporting Burden: 1,000 hours.

Clearance Officer: Sally Clary, Senior Insurance Analyst, Department of the Treasury, 1500 Pennsylvania Avenue, NW., Washington, DC 20220.

OMB Reviewer: OIRA Desk Officer, Office of Management and Budget, Room 10235, New Executive Office Building, Washington, DC 20503, oira_submission@omb.eop.gov.

Robert Dahl,
Treasury PRA Clearance Officer.

[FR Doc. E9-12533 Filed 5-28-09; 8:45 am]

BILLING CODE 4810-25-P